NATIONAL SCIENCE FOUNDATION

Proposal Review Panel for Ocean Sciences; Notice of Meeting

In accordance with the Federal Advisory Committee Act (Pub. L. 92-463, as amended), the National Science Foundation announces the following meeting:

Name: Proposal Review Panel for Ocean Sciences (#10752).

Date & Time: July 12-13, 2011, 8 a.m.-5 p.m.

Place: National Science Foundation, 4201 Wilson Blvd., Arlington, VA 22230, Stafford I Room 320.

Type of Meeting: Part-Open.

Contact Person: Michelle Hall, Program Director, Division of Ocean Sciences, National Science Foundation, 4201 Wilson Blvd., Arlington, VA 22230. Telephone: (703) 292-8583.

Purpose of Meeting: To conduct a decadal review of the Center for Ocean Science Education Excellence (COSEE) funded by the NSF.

Agenda: To review and determine whether or not a program has made appropriate progress and contribution to the field during the prior decade and to provide advice to NSF on the future of the program.

Tuesday, July 12, 2011

8 a.m.-9:30 a.m.—Open for opening remarks and COSEE presentations

10 a.m.-12 p.m.—Closed for committee deliberations

1 p.m.-1:30 p.m.—Closed presentations

1:30 p.m.-5 p.m.—Closed for committee deliberations

Wednesday, July 13, 2011

8 a.m.-5 p.m.—Closed for committee writing and deliberations.

Reason for Closing: Topics to be discussed and evaluated during the site review may include proprietary or confidential nature, including technical information; financial data, such as salaries; and personal information concerning individuals associated with the proposal. These matters are exempt under 5 U.S.C. 552b(c), (4) and (6) of the Government in The Sunshine Act.

Dated: June 27, 2011.
Susanne Bolton,
Committee Management Officer.

[FR Doc. 2011-16535 Filed 6-30-11; 8:45 am]

BILLING CODE 7555-01-P